DEPARTMENT OF ENERGY

[GDO Docket No. EA-385-B]

Application for Renewal of Authorization To Export Electric Energy; Dynasty Power, Inc.

AGENCY: Grid Deployment Office, Department of Energy.

ACTION: Notice of application.

SUMMARY: Dynasty Power, Inc. (Dynasty Power or the Applicant) has applied for renewed authorization to transmit electric energy from the United States to Canada pursuant to the Federal Power Act.

DATES: Comments, protests, or motions to intervene must be submitted on or before July 25, 2024.

ADDRESSES: Comments, protests, motions to intervene, or requests for more information should be addressed by electronic mail to Electricity.Exports@hq.doe.gov.

FOR FURTHER INFORMATION CONTACT: Janessa Zucchetto, (240) 474-8226, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) under Delegation Order No. S1-DEL-S3-2023 and Redelegation Order No. S3-DEL-GD1-2023.

In September 2012, DOE issued Order EA-385 to Dynasty Power to transmit electric energy from the United States to Canada as a power marketer. On May 15, 2019, DOE issued Order EA-3385-A renewing this authorization. On May 13, 2024, Dynasty Power filed an application with DOE (Application or App.) for renewal of their export authority for an additional five-year term. App. at 1.

According to the Application, Dynasty Power is incorporated in the Canadian province of Alberta, with its principal place of business in Calgary, Alberta. App. at 1. The Applicant's “sole business is to act as a power marketer in the purchase and sale of wholesale electricity, capacity, and ancillary services at market-based rates[.]” Id. The Applicant “does not own or control any electric power generation or transmission facilities and does not have a franchised electric power service area.” Id at 2. Dynasty Power represents that it “will purchase surplus electric energy from electric utilities and other suppliers within the United States and will export this energy to Canada over the international electric transmission facilities.” Id. at 3. Further, the Applicant states that its “export of power will not impair the sufficiency of electric power supply in the U.S.” Id. Additionally, the Applicant states its transactions will comply with all North American Electric Reliability Corporation requirements and export limits, which ensure such exports “will not impede or tend to impede the coordinated use of transmission facilities within the meaning of Section 202(e) of the FPA.” Id. at 3-4.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning Dynasty Power's Application should be clearly marked with GDO Docket No. EA-385-B. Additional copies are to be provided directly to Todd McRRae, Dynasty Power Inc., 411 8th Avenue SW, Calgary, AB T2P 1E3, Canada, tmcrae@dynastypower.ca; Jeffrey M. Jakubiak and Jennifer C. Mansh, Vinson & Elkins LLP, 1114 6th Avenue 32nd Floor, New York, NY 10036, jjakubiak@velaw.com, jmansh@velaw.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on June 17, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 20, 2024.
Treena V. Garrett,
Federal Register Liaison Officer, U.S. Department of Energy.

[FR Doc. 2024-13873 Filed 6-24-24; 8:45 am]

BILLING CODE 6450-01-P